DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Colorado:
Adams (FEMA Docket No.: B-1871). | City of Westminster (18-08-0635P). | The Honorable Herb Atchison, Mayor, City of Westminster, 4800 West 92nd Avenue, Westminster, CO 80031. | City Hall, 4800 West 92nd Avenue, Westminster, CO 80031. | Feb. 14, 2019 | 080008
Adams (FEMA Docket No.: B-1871). | Unincorporated areas of Adams County (18-08-0635P). | The Honorable Mary Hodge, Chair, Adams County Board of Commissioners, 4430 South Adams County Parkway, 5th Floor, Suite C5000A, Brighton, CO 80601. | Adams County Development Engineering Services Department, 4430 South Adams County Parkway, Brighton, CO 80601. | Feb. 14, 2019 | 080001
Larimer (FEMA Docket No.: B-1871). | City of Fort Collins (17-08-1354P). | The Honorable Wade Troxell, Mayor, City of Fort Collins, 300 LaPorte Avenue, Fort Collins, CO 80521. | Stormwater Utilities Department, 700 Wood Street, Fort Collins, CO 80521. | Feb. 21, 2019 | 080102
Larimer (FEMA Docket No.: B-1871). | Town of Timnath (17-08-1354P). | The Honorable Jill Grossman-Belisle, Mayor, Town of Timnath, 4800 Goodman Street, Timnath, CO 80547. | Town Hall, 4800 Goodman Street, Timnath, CO 80547. | Feb. 21, 2019 | 080005
Larimer (FEMA Docket No.: B-1871). | Unincorporated areas of Larimer County (17-08-1354P). | The Honorable Steve Johnson, Chairman, Larimer County Board of Commissioners, P.O. Box 1190, Fort Collins, CO 80522. | Larimer County Engineering Department, 200 West Oak Street, Suite 3000, Fort Collins, CO 80521. | Feb. 21, 2019 | 080101
Connecticut:
Fairfield (FEMA Docket No.: B-1871). | City of Norwalk (18-01-1147P). | The Honorable Harry W. Rilling, Mayor, City of Norwalk, 125 East Avenue, Norwalk, CT 06851. | Planning and Zoning Department, 125 East Avenue, Norwalk, CT 06851. | Feb. 21, 2019 | 090012
Fairfield (FEMA Docket No.: B-1900). | Town of Darien (18-01-1839P). | The Honorable Jayme J. Stevenson, First Selectwoman, Town of Darien Board of Selectmen, 2 Renshaw Road, Darien, CT 06820. | Planning and Zoning Department, 2 Renshaw Road, Darien, CT 06820. | Feb. 25, 2019 | 090005
Fairfield (FEMA Docket No.: B-1866). | Town of Newtown (18-01-0540P). | The Honorable Dan Rosenthal, First Selectman, Town of Newtown Board of Selectmen, 3 Primrose Street, Newtown, CT 06470. | Town Hall, 3 Primrose Street, Newtown, CT 06470. | Feb. 19, 2019 | 090011
Florida:
Lee (FEMA Docket No.: B-1871). | City of Sanibel (18-04-3740P). | The Honorable Kevin Ruane, Mayor, City of Sanibel, 800 Dunlop Road, Sanibel, FL 33957. | Planning and Code Enforcement Department, 800 Dunlop Road, Sanibel, FL 33957. | Feb. 19, 2019 | 120402
Monroe (FEMA Docket No.: B-1866). | City of Layton (18-04-5816P). | The Honorable Norman S. Anderson, Mayor, City of Layton, P.O. Box 778, Long Key, FL 33001. | Building Department, 68280 Overseas Highway, Long Key, FL 33001. | Feb. 8, 2019 | 120169
Monroe (FEMA Docket No.: B-1866). | City of Layton (18-04-5890P). | The Honorable Norman S. Anderson, Mayor, City of Layton, P.O. Box 778, Long Key, FL 33001. | Building Department, 68280 Overseas Highway, Long Key, FL 33001. | Feb. 14, 2019 | 120169
Monroe (FEMA Docket No.: B-1866). | Unincorporated areas of Monroe County (18-04-5923P). | The Honorable David Rice, Mayor, Monroe County Board of Commissioners, 9400 Overseas Highway, Suite 210, Marathon, FL 33050. | Monroe County Building Department, 2798 Overseas Highway, Suite 300, Marathon, FL 33050. | Feb. 19, 2019 | 125129
Monroe (FEMA Docket No.: B-1871). | Unincorporated areas of Monroe County (18-04-6042P). | The Honorable David Rice, Mayor, Monroe County Board of Commissioners, 9400 Overseas Highway, Suite 210, Marathon, FL 33050. | Monroe County Building Department, 9400 Overseas Highway, Suite 300, Marathon, FL 33050. | Feb. 22, 2019 | 125129
Monroe (FEMA Docket No.: B-1866). | Village of Islamorada (18-04-6933P). | The Honorable Chris Sante, Mayor, Village of Islamorada, 86800 Overseas Highway, Islamorada, FL 33036. | Planning and Development Department, 86800 Overseas Highway, Islamorada, FL 33036. | Feb. 19, 2019 | 120424
Pasco (FEMA Docket No.: B-1871). | Unincorporated areas of Pasco County (17-04-7747P). | The Honorable Mike L. Wells, Chairman, Pasco County Board of Commissioners, 8731 Citizens Drive, Suite 100, New Port Richey, FL 34654. | Pasco County Building and Construction Services Department, 8731 Citizens Drive, New Port Richey, FL 34654. | Feb. 28, 2019 | 120230
Pinellas (FEMA Docket No.: B-1866). | Town of Indian Shores (18-04-5445P). | The Honorable Patrick Soranno, Mayor, Town of Indian Shores, 19305 Gulf Boulevard, Indian Shores, FL 33785. | Building Department, 19305 Gulf Boulevard, Indian Shores, FL 33785. | Feb. 11, 2019 | 125118
Polk (FEMA Docket No.: B-1871). | Unincorporated areas of Polk County (18-04-5171P). | The Honorable R. Todd Dantzler, Chairman, Polk County Board of Commissioners, P.O. Box 9005, Bartow, FL 33831. | Polk County Administration Building, 330 West Church Street, Bartow, FL 33831. | Feb. 28, 2019 | 120261
Polk (FEMA Docket No.: B-1866). | Unincorporated areas of Polk County (18-04-6600P). | The Honorable R. Todd Dantzler, Chairman, Polk County Board of Commissioners, 330 West Church Street, Bartow, FL 33831. | Polk County Floodplain Department, 330 West Church Street, Bartow, FL 33831. | Feb. 14, 2019 | 120261
Louisiana: Morehouse (FEMA Docket No.: B-1866). | Unincorporated areas of Morehouse Parish (18-06-2764P). | The Honorable Terry Matthews, President, Morehouse Parish Police Jury, 125 East Madison Avenue, Bastrop, LA 71220. | Morehouse Parish Police Jury, 125 East Madison Avenue, Bastrop, LA 71220. | Feb. 11, 2019 | 220367
Maryland: Somerset (FEMA Docket No.: B-1871). | Unincorporated areas of Somerset County (18-03-1921P). | The Honorable Randy Laird, President, Somerset County Commission, 11916 Somerset Avenue, Room 111, Princess Anne, MD 21853. | Somerset County Department of Technical and Community Services, 11916 Somerset Avenue, Room 211, Princess Anne, MD 21853. | Feb. 28, 2019 | 240061
New Hampshire: Hillsborough (FEMA Docket No.: B-1871). | City of Manchester (18-01-0929P). | The Honorable Joyce Craig, Mayor, City of Manchester, 1 City Hall Plaza, Manchester, NH 03101. | Planning Department, 1 City Hall Plaza, Manchester, NH 03101. | Feb. 14, 2019 | 330169
New Mexico: Bernalillo (FEMA Docket No.: B-1866). | City of Albuquerque (18-06-1222P). | The Honorable Timothy M. Keller, Mayor, City of Albuquerque, P.O. Box 1293, Albuquerque, NM 87103. | Planning Department, 600 2nd Street Northwest, Albuquerque, NM 87102. | Feb. 11, 2019 | 350002
North Dakota: Stark (FEMA Docket No.: B-1866). | City of Dickinson (18-08-0776P). | The Honorable Scott Decker, Mayor, City of Dickinson, 99 2nd Street East, Dickinson, ND 58601. | City Hall, 99 2nd Street East, Dickinson, ND 58601. | Feb. 20, 2019 | 380117
South Carolina: York (FEMA Docket No.: B-1866). | Unincorporated areas of York County (18-04-1779P). | The Honorable Britt Blackwell, Chairman, York County Council, P.O. Box 66, York, SC 29745. | York County Heckle Complex, 1070 Heckle Boulevard, Suite 107, York, SC 29732. | Feb. 11, 2019 | 450193
South Dakota: Lawrence (FEMA Docket No.: B-1871). | City of Spearfish (18-08-0274P). | The Honorable Dana Boke, Mayor, City of Spearfish, 625 5th Street, Spearfish, SD 57783. | City Hall, 625 5th Street, Spearfish, SD 57783. | Feb. 25, 2019 | 460046
Texas:
Denton (FEMA Docket No.: B-1871). | City of Denton (18-06-2351P). | The Honorable Chris A. Watts, Mayor, City of Denton, 215 East McKinney Street, Suite 100, Denton, TX 76201. | Engineering Services Department, 901-A Texas Street, Denton, TX 76509. | Feb. 25, 2019 | 480194
Denton (FEMA Docket No.: B-1871). | City of The Colony (18-06-1146P). | The Honorable Joe McCourry, Mayor, City of The Colony, 6800 Main Street, The Colony, TX 75056. | Engineering Department, 6800 Main Street, The Colony, TX 75056. | Feb. 19, 2019 | 481581
Denton (FEMA Docket No.: B-1871). | Town of Flower Mound (18-06-2274P). | The Honorable Steve Dixon, Mayor, Town of Flower Mound, 2121 Cross Timbers Road, Flower Mound, TX 75028. | Town Hall, 2121 Cross Timbers Road, Flower Mound, TX 75028. | Feb. 19, 2019 | 480777
Taylor (FEMA Docket No.: B-1871). | City of Abilene (18-06-0761P). | The Honorable Anthony Williams, Mayor, City of Abilene, P.O. Box 60, Abilene, TX 79604. | City Hall, 555 Walnut Street, Abilene, TX 79601. | Feb. 25, 2019 | 485450
Travis (FEMA Docket No.: B-1871). | City of Austin (18-06-1298P). | Mr. Spencer Cronk, Manager, City of Austin, P.O. Box 1088, Austin, TX 78767. | Watershed Protection Department, 505 Barton Springs Road, 12th Floor, Austin, TX 78704. | Feb. 25, 2019 | 480624
Travis (FEMA Docket No.: B-1866). | City of Pflugerville (18-06-0800P). | The Honorable Victor Gonzales, Mayor, City of Pflugerville, P.O. Box 589, Pflugerville, TX 78691. | Development Services Center, 201-B East Pecan Street, Pflugerville, TX 78691. | Feb. 11, 2019 | 481028
Travis (FEMA Docket No.: B-1866). | Unincorporated areas of Travis County (18-06-0800P). | The Honorable Sarah Eckhardt, Travis County Judge, P.O. Box 1748, Austin, TX 78767. | Travis County Transportation and Natural Resources Division, 700 Lavaca Street, Suite 540, Austin, TX 78701. | Feb. 11, 2019 | 481026
Travis (FEMA Docket No.: B-1871). | Unincorporated areas of Travis County (18-06-1298P). | The Honorable Sarah Eckhardt, Travis County Judge, P.O. Box 1748, Austin, TX 78767. | Travis County Transportation and Natural Resources Department, 700 Lavaca Street, 5th Floor, Austin, TX 78767. | Feb. 25, 2019 | 481026
Webb (FEMA Docket No.: B-1900). | Unincorporated areas of Webb County (18-06-2395P). | The Honorable Tano E. Tijerina, Webb County Judge, 1000 Houston Street, 3rd Floor, Laredo, TX 78040. | Webb County Planning Department, 1110 Washington Street, Suite 302, Laredo, TX 78040. | Feb. 12, 2019 | 481059
Virginia:
Chesterfield (FEMA Docket No.: B-1871). | Unincorporated areas of Chesterfield County (18-03-1312P). | Mr. Joseph P. Casey, Administrator, Chesterfield County, P.O. Box 40, Chesterfield, VA 23832. | Chesterfield County Department of Environmental Engineering, 9800 Government Center Parkway, Chesterfield, VA 23832. | Feb. 26, 2019 | 510035
Independent City (FEMA Docket No.: B-1871). | City of Harrisonburg (18-03-1944P). | The Honorable Deanna R. Reed, Mayor, City of Harrisonburg, 409 South Main Street, Harrisonburg, VA 22801. | Department of Planning and Community Development, 409 South Main Street, Harrisonburg, VA 22801. | Feb. 14, 2019 | 510076

[FR Doc. 2019-04870 Filed 3-14-19; 8:45 am]

BILLING CODE 9110-12-P